INTERNATIONAL TRADE COMMISSION

[Investigation No. 337-TA-528]

In the Matter of Certain Foam Masking Tape; Notice of a Commission Determination Not To Review an Initial Determination Granting Complaints' Motion To Amend the Complaint and Notice of Investigation by Adding Two Respondents

AGENCY: International Trade Commission.

ACTION: Notice.

SUMMARY: Notice is hereby given that the U.S. International Trade Commission has determined not to review the initial determination (“ID”) of the presiding administrative law judge (“ALJ”) granting the motion of complainants 3M Company, 3M Innovative Properties Company, and Jean Silvestre (collectively “3M”) to amend the complaint and notice of investigation by adding two respondents.

FOR FURTHER INFORMATION CONTACT: Michael Diehl, Esq., Office of the General Counsel, U.S. International Trade Commission, telephone (202) 205-3095. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: By a notice published on January 4, 2005, the Commission instituted this investigation based on a complaint and an amended complaint filed by 3M. The amended complaint alleged a violation of section 337 of the Tariff Act of 1930 in the importation into the United States, and the sale for importation and/or sale within the United States after importation of certain foam masking tape by reason of infringement of certain claims of U.S. Patent Nos. 4,996,092 and 5,260,097. Named as respondents in the notice of investigation were Boss Auto Import, S.A. of Barcelona, Spain; Chemicar USA, Inc. of Memphis, Tennessee; EMM America, Inc. of Campton, New Hampshire; E.M.M. International B.V. of Zwolle, the Netherlands; Indasa, S.A. of Aveiro, Portugal; Indasa U.S.A., Inc. of Passaic, New Jersey; Intertape Polymer Corporation of Bradenton, Florida; IPG Administrative Services, Inc. of Bradenton, Florida; Intertape Polymer Group, Inc., of Montreal, Canada; Saint-Gobain Abrasifs (France) of Conflans-Saint-Honorine, France; Saint-Gobain Abrasives, Inc. of Worcester, Massachusetts; Transtar Autobody Technologies, Inc. of Brighton, Michigan; and Vosschemie GmbH of Uetersen, Germany.

On February 10, 2005, complainants filed a motion to amend the complaint and notice of investigation by adding new respondents Continental Marketing International of Taichung, Taiwan and Jevtech, Ltd. of Macclesfield, United Kingdom. On March 1, 2005, the ALJ issued an ID (Order No. 14) granting the motion to amend.

No party petitioned for review of the ID.

This action is taken under the authority of section 337 of the Tariff Act of 1930, as amended, 19 U.S.C. 1337, and Commission rule 210.42, 19 CFR 210.42.

Issued: March 29, 2005.
By order of the Commission.
Marilyn R. Abbott,
Secretary to the Commission.

[FR Doc. 05-6532 Filed 4-1-05; 8:45 am]

BILLING CODE 7020-02-P